COMMODITY FUTURES TRADING COMMISSION

Sunshine Act Meetings

TIME AND DATE: 9:30 a.m. EST, Wednesday, December 13, 2023.

PLACE: CFTC Headquarters Conference Center, Three Lafayette Centre, 1155 21st Street, NW, Washington, DC.

STATUS: Open.

MATTERS TO BE CONSIDERED: The Commodity Futures Trading Commission (“Commission” or “CFTC”) will hold this meeting to consider the following matters:

• Proposed Rule: Operational Resilience Framework for Futures Commission Merchants, Swap Dealers, and Major Swap Participants;

• Proposed Rule: Capital and Financial Reporting Requirements for Swap Dealers and Major Swap Participants;

• Proposed Rule: Protection of Clearing Member Funds Held by Derivatives Clearing Organizations;

• Amended Application of Bitnomial Clearinghouse, LLC for Registration as a Derivatives Clearing Organization; and

• Proposed Rule: Amendments to Swap Data Recordkeeping and Reporting Requirements.

The agenda for this meeting will be available to the public and posted on the Commission's website at https://www.cftc.gov. Members of the public are free to attend the meeting in person, or have the option to listen by phone or view a live stream. Instructions for listening to the meeting by phone and connecting to the live video stream will be posted on the Commission's website.

In the event that the time, date, or place of this meeting changes, an announcement of the change, along with the new time, date, or place of the meeting, will be posted on the Commission's website.

CONTACT PERSON FOR MORE INFORMATION: Christopher Kirkpatrick, Secretary of the Commission, 202-418-5964.

Authority: 5 U.S.C. 552b.

Dated: December 6, 2023.
Christopher Kirkpatrick,
Secretary of the Commission.

[FR Doc. 2023-27175 Filed 12-7-23; 11:15 am]

BILLING CODE 6351-01-P